DEPARTMENT OF HEALTH AND HUMAN SERVICES

Centers for Medicare & Medicaid Services

[Document Identifier: CMS-R-64]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of the currently approved collection; Title of Information Collection: Indirect Medical Education (IME) and Supporting Regulations at 42 CFR 412.105; Direct Graduate Medical Education (GME) and Supporting Regulations at 42 CFR 413.75 through 413.83; Use: The information collected on interns and residents (IRs) is used by the Medicare Part A fiscal intermediaries (FI) and Part A Medicare Administrative Contractors (MAC) to verify the number of IRs used in the calculation of Medicare program payments for indirect medical education (IME) as well as direct graduate medical education (GME). The IR data collected from the hospitals is processed through computers at FIs/MACs to identify any duplicated time based upon the accumulated time of each individual that worked at one or more hospitals. The identification of duplicate IRs is necessary to ensure that no IR is counted more than once.

The FIs/MACs use the information collected on IRs to help ensure that all program payments for IME and GME are based upon an accurate number of FTE-IRs, determined in accordance with Medicare regulations. The IR data submitted by the hospitals are used by the FIs/MACs during their audits of the providers' cost reports. The audit procedures help assure that the information reported was correct, and that IRs who should not have been reported by the hospitals (or portions of the IRs' time) are not included in the FTE count. The FIs/MACs also use reports of duplicate IRs to prevent improper payment for IME and GME. Form Number: CMS-R-64 (OMB#: 0938-0456); Frequency: Reporting—Yearly; Affected Public: Business or other for-profit and Not-for-profit institutions; Number of Respondents: 1,190; Total Annual Responses: 1,190; Total Annual Hours: 2,380. (For policy questions regarding this collection contact Milton Jacobson at 410-786-7553. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by December 22, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: October 16, 2009.
Michelle Shortt,
Director, Regulations Development Group, Office of Strategic Operations and Regulatory Affairs.

[FR Doc. E9-25572 Filed 10-22-09; 8:45 am]

BILLING CODE 4120-01-P